OFFICE OF PERSONNEL MANAGEMENT

Submission for Review: Combined Federal Campaign Charity Applications, OPM Forms 1647-A, -B, and -E, 3206-0131

AGENCY: U.S. Office of Personnel Management.

ACTION: 60-Day notice and request for comments.

SUMMARY: The Combined Federal Campaign (CFC), Office of Personnel Management (OPM) offers the general public and other Federal agencies the opportunity to comment on a revision to an existing information collection request, Combined Federal Campaign Applications OMB Control No. 3206-0131, which includes OPM Forms 1647-A, -B, and -E. New CFC rules published April 17, 2014 (76 FR 21581) authorize a means of electronic collection of CFC charity application information at 5 CFR 950.106(a). Pursuant to 5 CFR 1320.8(a)(5), it has been determined that the burden on respondents will be significantly reduced by use of this online application system. Moreover, OPM will discontinue use of OPM Forms 1647-C and -D as use of this online application system will render these forms unnecessary. As required by the Paperwork Reduction Act of 1995, (Pub. L. 104-13, 44 U.S.C. chapter 35) as amended by the Clinger-Cohen Act (Pub. L. 104-106), OPM is soliciting comments for this collection.

The Office of Personnel Management is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until May 9, 2016. This process is conducted in accordance with 5 CFR 1320.1.

ADDRESSES: Interested persons are invited to submit written comments on the proposed information collection to the U.S. Office of Personnel Management, Combined Federal Campaign, 1900 E Street NW., Washington, DC 20415, Attention: Marcus Glasgow or sent via electronic mail to cfc@opm.gov.

FOR FURTHER INFORMATION CONTACT: A copy of this ICR, with applicable supporting documentation, may be obtained by contacting the U.S. Office of Personnel Management, Combined Federal Campaign, 1900 E Street NW., Washington, DC 20415, Attention: Marcus Glasgow or sent via electronic mail to cfc@opm.gov.

SUPPLEMENTARY INFORMATION: The Combined Federal Campaign (CFC) is the world's largest and most successful annual workplace philanthropic giving campaign, with 135 CFC campaigns throughout the country and overseas raising millions of dollars each year. The mission of the CFC is to promote and support philanthropy through a program that is employee focused, cost-efficient, and effective in providing all federal employees the opportunity to improve the quality of life for all.

The Combined Federal Campaign eligibility applications are used to review the eligibility of national, international, and local charitable organizations that wish to participate in the Combined Federal Campaign. The proposed revisions reflect changes in federal regulations at 5 CFR 950 from the Office of Personnel Management published in the Federal Register on Thursday, April 17, 2014 (76 FR 21581). The forms in this information collection and their proposed statuses are as follows:

OPM Form 1647-A (CFC National/International Independent Organization and Federation Member Application)—Change to online form: OPM Form 1647-A CFC Independent Organization and Federation Member Application

OPM Form 1647-B (CFC National/International Federation Application)—Change to online form: OPM Form 1647-B CFC Federation Application

OPM Form 1647-C (CFC Local Independent Organization and Federation Member Application)—Discontinue use

OPM Form 1647-D (CFC Local Federation Application)—Discontinue use

OPM Form 1647-E (CFC Family Support and Youth Activities Application)—Change to online form: OPM Form 1647-E CFC Family Support and Youth Activities Application

Analysis

Agency: Combined Federal Campaign, Office of Personnel Management.

Title: OPM Forms 1647-A, -B, and -E.

OMB Number: OMB Control No. 3206-0131.

Frequency: Annually.

Affected Public: Individuals or Households.

Number of Respondents: 1647-A and -B: 20,000 (combined); OPM Form 1647-E: 500.

Estimated Time per Respondent: 1647-A and -B: 2 hours; OPM Form 1647-E: 1 hour.

Total Burden Hours: 40,500 hours.

U.S. Office of Personnel Management.
Beth F. Cobert,
Acting Director.

[FR Doc. 2016-05456 Filed 3-9-16; 8:45 am]

BILLING CODE 6325-46-P